DEPARTMENT OF ENERGY

Federal Energy Regulatory Commission

Combined Notice of Filings #1

Take notice that the Commission received the following electric rate filings:

Docket Numbers: ER10-2400-003.

Applicants: Blue Canyon Windpower LLC.

Description: Notice of Non-Material Change in Status of Blue Canyon Windpower LLC.

Filed Date: 8/19/14.

Accession Number: 20140819-5177.

Comments Due: 5 p.m. ET 9/9/14.

Docket Numbers: ER11-3391-002.

Applicants: Dempsey Ridge Wind Farm, LLC.

Description: Dempsey Ridge Wind Farm, LLC Market-Based Rate Tariff Revision for Ancillary Services to be effective 8/20/2014.

Filed Date: 8/20/14.

Accession Number: 20140820-5124.

Comments Due: 5 p.m. ET 9/10/14.

Docket Numbers: ER14-1711-004.

Applicants: TC Ravenswood, LLC.

Description: Oil Burn Rate Schedule to be effective 5/1/2014.

Filed Date: 8/20/14.

Accession Number: 20140820-5057.

Comments Due: 5 p.m. ET 9/10/14.

Docket Numbers: ER14-2609-000.

Applicants: 3 Phases Energy Services, LLC.

Description: The California Independent System Operator submits amended Request of 3 Phases Energy Services, LLC for Waiver of Section 37.11.1.

Filed Date: 8/12/14.

Accession Number: 20140812-5101.

Comments Due: 5 p.m. ET 9/2/14.

Docket Numbers: ER14-2678-000.

Applicants: Midcontinent Independent System Operator, Inc.

Description: 2014-08-19_SA 2684 GRE-MP Ortman T-T (J278) to be effective 8/20/2014.

Filed Date: 8/19/14.

Accession Number: 20140819-5173.

Comments Due: 5 p.m. ET 9/9/14.

Docket Numbers: ER14-2679-000.

Applicants: Southern California Edison Company.

Description: Service Agreement for Wholesale Distribution Service with City of Moreno Valley to be effective 8/21/2014.

Filed Date: 8/20/14.

Accession Number: 20140820-5000.

Comments Due: 5 p.m. ET 9/10/14.

Docket Numbers: ER14-2680-000.

Applicants: Energia Sierra Juarez U.S. Transmission, LLC.

Description: Energia Sierra Juarez U.S. Transmission, LLC Facilities Agreement to be effective 10/20/2014.

Filed Date: 8/20/14.

Accession Number: 20140820-5037.

Comments Due: 5 p.m. ET 9/10/14.

Docket Numbers: ER14-2681-000.

Applicants: Midcontinent Independent System Operator, Inc.

Description: Midwest Independent Transmission System Operator, Inc. submits Notice of Termination of Generator Interconnection Agreement No. 2333 for Project G520.

Filed Date: 8/20/14.

Accession Number: 20140820-5161.

Comments Due: 5 p.m. ET 9/10/14.

Docket Numbers: ER14-2682-000.

Applicants: American Transmission Systems, Incorporated, PJM Interconnection, L.L.C.

Description: ATSI submits First Revised SA No. 2853; SA No. 3926 and SA No. 3927 to be effective 10/20/2014.

Filed Date: 8/20/14.

Accession Number: 20140820-5163.

Comments Due: 5 p.m. ET 9/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2014-20396 Filed 8-26-14; 8:45 am]

BILLING CODE 6717-01-P